DEPARTMENT OF THE INTERIOR

Fish and Wildlife Service

[FWS-R3-ES-2009-N246; 30120-1113-0000-F6]

Endangered and Threatened Wildlife and Plants; Permit Application

AGENCY: Fish and Wildlife Service, Interior.

ACTION: Notice of availability of permit application; request for comments.

SUMMARY: We, the U.S. Fish and Wildlife Service, invite the public to comment on the following application to conduct certain activities with endangered species. With some exceptions, the Endangered Species Act (Act) prohibits activities with endangered and threatened species unless a Federal permit allows such activity. The Act requires that we invite public comment before issuing this permit.

DATES: We must receive any written comments on or before December 21, 2009.

ADDRESSES: Send written comments to the Regional Director, Attn: Peter Fasbender, U.S. Fish and Wildlife Service, Ecological Services, 1 Federal Drive, Fort Snelling, MN 55111-4056; electronic mail, permitsR3ES@fws.gov.

FOR FURTHER INFORMATION CONTACT: Peter Fasbender, (612) 713-5343.

SUPPLEMENTARY INFORMATION:

Background

We invite public comment on the following permit application for certain activities with endangered species authorized by section 10(a)(1)(A) of the Act (16 U.S.C. 1531 et seq.) and our regulations governing the taking of endangered species in the Code of Federal Regulations at 50 CFR 17. Submit your written data, comments, or request for a copy of the complete application to the address shown in ADDRESSES. When submitting comments, please refer to the appropriate permit application number.

Permit Applications

Permit Application Number: TE230947.

Applicant: Malacological Consultants, LaCrosse, Wisconsin.

The applicant requests a permit to take (capture and release/relocate) Higgins' eye pearlymussel and winged mapleleaf mussel (Quadrula fragosa) in Minnesota, Wisconsin, and Iowa to determine presence or absence of the species and to relocate individuals that may be in danger of injury or stranding. Proposed activities are aimed at enhancement of the survival of the species in the wild.

Public Comments

We seek public review and comments on this permit application. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: November 9, 2009.
Lynn M. Lewis,
Assistant Regional Director, Ecological Services, Region 3.

[FR Doc. E9-27804 Filed 11-18-09; 8:45 am]

BILLING CODE 4310-55-P